DEPARTMENT OF EDUCATION

[CFDA No. 84.200A]

Funding Down the Grant Slate From Fiscal Year (FY) 2012; Graduate Assistance in Areas of National Need (GAANN) Program

AGENCY: Office of Postsecondary Education, Department of Education.

ACTION: Notice.

SUMMARY: The Secretary intends to use the grant slate developed in FY 2012 for the GAANN Program authorized by Section 711 of the Higher Education Act of 1965, as amended (HEA), to make new grant awards in FY 2013. The Secretary takes this action because a significant number of high-quality applications remain on the FY 2012 grant slate and limited funding is available for new grant awards in FY 2013. We expect to use an estimated $3,674,000 for new awards in FY 2013.

FOR FURTHER INFORMATION CONTACT: Rebecca Ell, U.S. Department of Education, 1990 K Street NW., Room 7105, Washington, DC 20006-8510. Telephone: (202) 502-7779 or via Internet: Rebecca.Ell@ed.gov.

If you use a telecommunications device for the deaf (TDD) or a text telephone (TTY), call the Federal Relay Service (FRS), toll free, at 1-800-877-8339.

Individuals with disabilities can obtain this document in an accessible format (e.g., braille, large print, audiotape, or compact disc) on request to the contact person listed under FOR FURTHER INFORMATION CONTACT.

SUPPLEMENTARY INFORMATION:

Background

On December 15, 2011, the Department of Education published a notice in the Federal Register (76 FR 77985) inviting applications for FY 2012 for new awards under the GAANN Program.

In response to that notice, we received a significant number of high-quality applications, and many applications that received high scores by peer reviewers were not selected for funding.

To conserve funding that would be required for a peer review of new grant applications submitted under this program and instead use those funds to support grant activities, we will select grantees in FY 2013 from the existing slate of applicants developed during the FY 2012 competition using the priority, selection criteria, and application requirements referenced in the December 2011 notice.

Program Authority: 20 U.S.C. 1135.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Delegation of Authority: The Secretary of Education has delegated authority to Brenda Dann-Messier, Assistant Secretary for Vocational and Adult Education, to perform the functions and duties of the Assistant Secretary for Postsecondary Education.

Dated: June 14, 2013.
Brenda Dann-Messier,
Assistant Secretary for Vocational and Adult Education, delegated the authority to perform the functions and duties of the Assistant Secretary for Postsecondary Education.

[FR Doc. 2013-14651 Filed 6-18-13; 8:45 am]

BILLING CODE 4000-01-P